DEPARTMENT OF ENERGY

Federal Energy Regulatory Commission

[Docket No. IC01-566-000, FERC Form 566]

Proposed Information Collection and Request for Comments

May 2, 2001.

AGENCY: Federal Energy Regulatory Commission, DOE.

ACTION: Notice of proposed information collection and request for comments.

SUMMARY: In compliance with the requirements of Section 3506(c)(2)(a) of the Paperwork Reduction Act of 1995 (Pub. L. 104-13), the Federal Energy Regulatory Commission (Commission) is soliciting public comment on the specific aspects of the information collection described below.

DATES: Consideration will be given to comments submitted on or before July 9, 2001.

ADDRESSES: Copies of the proposed collection of information can be obtained from and written comments may be submitted to the Federal Energy Regulatory Commission, Attn: Michael Miller, Office of the Chief Information Officer, CI-1, 888 First Street NE., Washington, DC 20426.

FOR FURTHER INFORMATION CONTACT: Michael Miller may be reached by telephone at (202) 208-1415, by fax at (202) 208-2425, and by e-mail at mike.miller@ferc.fed.us.

SUPPLEMENTARY INFORMATION: The information collected under the requirements of FERC-566 “Annual Report of a Utility's Twenty Largest Purchasers” (OMB No. 1902-0114) is used by the Commission to implement the statutory provisions of the Federal Power Act section 305(c)(2) (FPA) as amended by Title II, Section 211 of the Public Utility Regulatory Policies Act of 1978 (PURPA) (16 U.S.C. 825d). EPA section 305—Officials Dealing in Securities—Interlocking Directorates defines the annual reporting requirements for public utility officers and directors to report officer and director positions they hold with, among other entities, a public utility's top twenty customers of electric energy. FPA section 305(c)(2) states “each public utility shall publish a list, pursuant to rules prescirbed by the Commission * * * This statutory requirement to publish customers list allows the public the opportunity to compare the customers listed with the interlocking directorate information filed in FERC Form 561, by public utility officers and directors, for the identification of positions where the relationship may be employed, for example, for the director's own benefit or profit, or for the benefit or profit of any other person or persons and to the detriment of the utility's, or the public interest. The required public utility filers, the necessary filing information, the requirement to publish the information and the filing deadline are all mandated by the FPA. The Commission is not empowered to amend or waive these statutory requirements. Requirements the Commission has the authority to amend, such as the format of the filing itself and the number of required copies are found at 18 CFR 46.3.

Action: The Commission is requesting a three-year extension of the current expiration date, with no changes to the existing collection of data.

Burden Statement: Public reporting burden for this collection is estimated as:

Number of respondents annually | Number of responses per respondent | Average burden hours per response | Total annual burden hours
(1) | (2) | (3) | (1)×(2)×(3)
175 | 1 | 6 | 1,050

The estimated total cost to respondents is $59,083 (1,050 hours divided by 2,080 hours per year per employee times $117,041 per year per average employee=$59,083). The cost per respondent is $338.

The reporting burden includes the total time, effort, or financial resources expended to generate, maintain, retain, disclose, or provide the information including: (1) Reviewing instructions; (2) developing, acquiring, installing, and utilizing technology and systems for the purposes of collecting, validating, verifying, processing, maintaining, disclosing and providing information; (3) adjusting the existing ways to comply with any previously applicable instructions and requirements; (4) training personnel to respond to a collection of information; (5) searching data sources; (6) completing and reviewing the collection of information; and (7) transmitting, or otherwise disclosing the information.

The estimate of cost for respondents is based upon salaries for professional and clerical support, as well as direct and indirect overhead costs. Direct costs include all costs directly attributable to providing this information, such as administrative costs and the cost for information technology. Indirect or overhead costs are costs incurred by an organization in support of its mission. These costs apply to activities which benefit the whole organization rather than one particular function or activity.

Comments are invited on: (1) Whether the proposed collection of information is necessary for the proper performance of the functions of the Commission, including whether the information will have practical utility; (2) the accuracy of the agency's estimate of the burden of the proposed collection of information, including the validity of the methodology and assumptions used; (3) ways to enhance the quality, utility and clarity of the information to be collected; and (4) ways to minimize the burden of the collection of information on those who are to respond, including the use of appropriate automated, electronic, mechanical, or other technological collection techniques or other forms of information technology, e.g., permitting electronic submission of responses.

David P. Boergers,
Secretary.

[FR Doc. 01-11489 Filed 5-7-01; 8:45 am]

BILLING CODE 6717-01-M